DEPARTMENT OF COMMERCE

National Oceanic and Atmospheric Administration

RIN 0648-XC866

Fisheries of the Northeast Region

AGENCY: National Marine Fisheries Service (NMFS), National Oceanic and Atmospheric Administration (NOAA), Commerce.

ACTION: Notification of a determination of overfishing or an overfished condition.

SUMMARY: This action serves as a notice that NMFS, on behalf of the Secretary of Commerce (Secretary), has determined that Georges Bank (GB) cod and Gulf of Maine (GOM) cod are subject to overfishing and continue to be in an overfished condition.

NMFS, on behalf of the Secretary, notifies the appropriate fishery management council (Council) whenever it determines that overfishing is occurring, a stock is in an overfished condition, a stock is approaching an overfished condition, or when a rebuilding plan has not resulted in adequate progress toward ending overfishing and rebuilding affected fish stocks.

FOR FURTHER INFORMATION CONTACT: Mark Nelson, (301) 427-8565.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2), NMFS, on behalf of the Secretary, must notify Councils whenever it determines that a stock or stock complex is: overfished; approaching an overfished condition; or an existing rebuilding plan has not ended overfishing or resulted in adequate rebuilding progress. NMFS also notifies Councils when it determines a stock or stock complex is subject to overfishing. Section 304(e)(2) further requires NMFS to publish these notices in the Federal Register.

The 2013 Stock Assessment Workshop (SAW) 55, showed that overfishing was occurring on both Georges Bank cod and Gulf of Maine cod, and that both stocks remain in an overfished condition. The New England Fishery Management Council has been notified of the results of SAW 55 and has taken action to end overfishing and rebuild these two stocks through Framework 48.

Dated: October 18, 2013.
Emily H. Menashes,
Deputy Director, Office of Sustainable Fisheries, National Marine Fisheries Service.

[FR Doc. 2013-25605 Filed 10-28-13; 8:45 am]

BILLING CODE 3510-22-P